DEPARTMENT OF THE TREASURY

Submission for OMB Review; Comment Request

March 8, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 15, 2004, to be assured of consideration.

Internal Revenue Service (IRS)

OMB Number: 1545-1870.

Regulation Project Number: REG-125638-01 Final.

Type of Review: Extension.

Title: Guidance Regarding Deduction and Capitalization of Expenditures.

Description: The information required to be retained by taxpayers will constitute sufficient documentation for purposes of substantiating a deduction. The information will be used by the agency on audit to determine the taxpayer's entitlement to a deduction. The respondents include taxpayers who engage in certain transactions involving the acquisition of a trade or business or an ownership interest in a legal entity.

Respondents: Business or other for-profit.

Estimated Number of Recordkeepers: 3,000.

Estimated Burden Hours Recordkeeper: 1 hour.

Estimated Total Recordkeeping Burden: 3,000 hours.

Clearance Officer: Glenn P. Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-5850 Filed 3-15-04; 8:45 am]

BILLING CODE 4830-01-P